DEPARTMENT OF TRANSPORTATION

Federal Motor Carrier Safety Administration

[Docket No. FMCSA-2006-26274]

Medical Review Board Meeting

AGENCY: Federal Motor Carrier Safety Administration (FMCSA).

ACTION: Notice of Meeting.

SUMMARY: FMCSA announces the next public meeting of its Medical Review Board (MRB). The MRB members will continue deliberations about current FMCSA medical standards, as well as consider recommendations for new science-based standards and guidelines to ensure that the physical condition of drivers is adequate to enable them to safely operate commercial motor vehicles (CMVs) in interstate commerce. In accordance with the Federal Advisory Committee Act (FACA), the meeting is open to the public.

DATES: The MRB meeting will be held from 9 a.m. to 12:30 p.m. on January 10, 2007.

ADDRESSES: The meeting will take place at the U.S. Department of Transportation, 400 Seventh Street, SW., Nassif Building, Room 2230, Washington, DC 20590-0001. The public must enter through the Southwest Visitor Entrance and comply with building security procedures, including provision of appropriate identification prior to being accompanied by a Federal employee to the meeting rooms. You may submit comments identified by DOT Docket Management System (DMS) Docket Number FMCSA-2006-26274 using any of the following methods:

• Web site: http://dmses.dot.gov/submit. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, S.W., Washington, DC, between 9 a.m. and 5 p.m., Monday through Friday, except Federal holidays.

• Federal eRulemaking Portal: Go to http://www.regulations.gov. Follow the online instructions for submitting comments.

Instructions: All submissions must include the Agency name and docket number for this Notice. Note that all comments received will be posted without change to http://dms.dot.gov including any personal information provided. Please see the Privacy Act heading for further information.

Docket: For access to the docket to read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the U.S. Department of Transportation's complete Privacy Act Statement in the Federal Register published on April 11, 2000 (65 FR 19477; Apr. 11, 2000). This information is also available at http://dms.dot.gov.

FOR FURTHER INFORMATION CONTACT: Dr. Mary D. Gunnels, Chief, Physical Qualifications Division, 202-366-4001, FMCSA, Department of Transportation, 400 Seventh Street, SW., Washington, DC 20590-0001. Office hours are from 8:30 a.m. to 5 p.m. Monday through Friday, except Federal holidays.

INFORMATION ON SERVICES FOR INDIVIDUALS WITH DISABILITIES: For information on facilities or services for individuals with disabilities or to request special assistance at the meeting, contact Kaye Kirby at 202-366-4001.

SUPPLEMENTARY INFORMATION: The preliminary agenda for the meeting includes:

0900-0905 Call to Order, Agenda Review.

0905-0920 Medical Review Board (MRB) Actions.

0920-0945 Schedule II Medications.

0945-1015 Medications Expert Panel Recommendations.

1015-1045 MRB questions on Schedule II Medications.

1045-1145 Deliberations on Evidence Report & Panel Comments.

1145-1230 Public Comment Period.

1230 Adjourn.

*Breaks will be announced on meeting day and may be adjusted according to schedule changes, other meeting requirements.

Background

The U.S. Secretary of Transportation announced on March 7, 2006, the five medical experts who serve on FMCSA's Medical Review Board (MRB). Section 4116 of the Safe, Accountable, Flexible, Efficient Transportation Equity Act: A Legacy for Users (SAFETEA-LU, Pub. L. 109-59) requires the Secretary of Transportation with the advice of the MRB to “establish, review, and revise medical standards for operators of Commercial Motor Vehicles (CMVs) that will ensure that the physical condition of operators is adequate to enable them operate the vehicles safely.” FMCSA is planning updates to the physical qualification regulations of CMV drivers, and the MRB will provide the necessary science-based guidance to establish realistic and responsible medical standards.

The MRB operates in accordance with the Federal Advisory Committee Act (FACA) as announced in the Federal Register (70 FR 57642, October 3, 2005). The MRB is charged initially with the review of all current FMCSA medical standards (49 CFR 391.41), as well as proposing new science-based standards and guidelines to ensure that drivers operating CMVs in interstate commerce, as defined in CFR 390.5, are physically capable of doing so.

Meeting Participation

Attendance is open to all interested parties, including the general public, medical professionals, motor carriers, drivers and representatives of associations. Written comments for this MRB meeting are being accepted and will be accepted until January 25, 2007. Written comments should include the docket number that is listed in the ADDRESSES section. During the meeting, public oral comments are accepted for 45 minutes (11:45 a.m. to 12:30 p.m.). Individual comments may be limited depending on the number of persons who wish to comment. Oral comments will be accepted on a first come, first serve basis as requestors register at the meeting. The comments must directly address relevant medical and scientific issues on the MRB meeting agenda. For more information, please view the following Web site: www.fmcsa.dot.gov/mrb.

Issued on: November 22, 2006.
Pamela M. Pelcovits,
Office Director, Policy, Plans, and Regulations.

[FR Doc. E6-20247 Filed 11-28-06; 8:45 am]

BILLING CODE 4910-EX-P